DEPARTMENT OF LABOR

Employment and Training Administration

[TA-W-71,697]

Federal-Mogul, Including On-Site Leased Workers From Kelly Services, Summerton, SC; Amended Certification Regarding Eligibility To Apply for Worker Adjustment Assistance

In accordance with Section 223 of the Trade Act of 1974, as amended (“Act”), 19 U.S.C. 2273, the Department of Labor issued a Certification of Eligibility to Apply for Worker Adjustment Assistance on October 27, 2009, applicable to workers of Federal-Mogul, Summerton, South Carolina. The notice was published in the Federal Register on December 11, 2009 (74 FR 65795).

At the request of the State, the Department reviewed the certification for workers of the subject firm. The workers are engaged in activities related to production of molded rubber products (seals and gaskets).

The company reported that workers leased from Kelly Services were employed on-site at the Summerton, South Carolina location of Federal-Mogul. The Department has determined that these workers were sufficiently under the control of the subject firm to be considered leased workers.

Based on these findings, the Department is amending this certification to include workers leased from Kelly Services working on-site at the Summerton, South Carolina location of Federal-Mogul.

The amended notice applicable to TA-W-71,697 is hereby issued as follows:

All workers Federal-Mogul, including on-site leased workers from Kelly Services, Summerton, South Carolina, who became totally or partially separated from employment on or after July 15, 2008, through October 27, 2011, and all workers in the group threatened with total or partial separation from employment on the date of certification through two years from the date of certification, are eligible to apply for adjustment assistance under Chapter 2 of Title II of the Trade Act of 1974, as amended.

Signed at Washington, DC, this 28th day of April 2010.
Elliott S. Kushner,
Certifying Officer, Division of Trade Adjustment Assistance.

[FR Doc. 2010-12104 Filed 5-19-10; 8:45 am]

BILLING CODE 4510-FN-P